DEPARTMENT OF THE INTERIOR

Bureau of Land Management

[LLNVC0200.L58740000.EU0000; N-82710, N-82711; 9-08807; TAS:14X5260]

Notice of Realty Action; Extension of Segregation of Public Lands for Proposed Sale in Lyon County, NV

AGENCY: Bureau of Land Management, Interior.

ACTION: Notice of realty action.

SUMMARY: This notice extends the segregation on 998.2 acres of public lands in Lyon County, Nevada for up to 2 additional years.

FOR FURTHER INFORMATION CONTACT: Fred Slagle, (775) 885-6115.

SUPPLEMENTARY INFORMATION: The following described public lands are located southwest (sec. 22) and south (sec. 36) of Fernley, Nevada:

Mount Diablo Meridian

T. 20 N., R. 24 E.,

Sec. 22, 1ots 1 to 6, inclusive, NE¼, E½NW¼, E½SW¼, and W½SE¼;

Sec. 36, E½NE¼NE¼, NW¼NE¼NE¼, N½NW¼NE¼, and W½.

The areas described aggregate 998.2 acres, more or less, in Lyon County.

Notification of a 2-year segregation of the described lands from appropriation under the public land laws, including the mining laws, except the sale provisions of the Federal Land Policy Management Act, appeared in the Federal Register on August 20, 2007 (72 FR 46509). The Bureau of Land Management (BLM) has completed an environmental analysis and by decision dated August 11, 2008, found the lands suitable for sale. The BLM has encountered unanticipated processing delays, including a pending action to clear an encumbrance on portions of the sale area. In accordance with 43 CFR 2711.1-2(d), the BLM Nevada State Director has determined that extension of this segregation is necessary to provide sufficient time to complete final processing steps required to offer these lands for sale. The segregative effect will terminate on issuance of a patent, publication in the Federal Register of a termination of the segregation, or on August 20, 2011, whichever occurs first.

(Authority: 43 CFR 2711.1-2(d))

Bryant Smith,
Associate District Manager, Carson City District.

[FR Doc. E9-16411 Filed 7-10-09; 8:45 am]

BILLING CODE 4310-HC-P